DEPARTMENT OF COMMERCE

International Trade Administration

[C-489-830]

Steel Concrete Reinforcing Bar From the Republic of Turkey: Rescission of Countervailing Duty Administrative Review; 2019

AGENCY: Enforcement and Compliance, International Trade Administration, Department of Commerce.

SUMMARY: The Department of Commerce (Commerce) is rescinding the administrative review of the countervailing duty (CVD) order on steel concrete reinforcing bar (rebar) from the Republic of Turkey (Turkey), covering the period January 1, 2019, through December 31, 2019.

DATES: Applicable November 9, 2020.

FOR FURTHER INFORMATION CONTACT: Peter Shaw, AD/CVD Operations, Office VII, Enforcement and Compliance, International Trade Administration, U.S. Department of Commerce, 1401 Constitution Avenue NW, Washington, DC 20230; telephone: (202) 482-0697.

SUPPLEMENTARY INFORMATION:

Background

On July 1, 2020, Commerce published in the Federal Register a notice of opportunity to request an administrative review of the CVD order on rebar from Turkey.¹ On July 30, 2020, the Rebar Trade Coalition (the petitioner) timely requested that Commerce conduct an administrative review of for Habas Sinai ve Tibbi Gazlar Istihsal Endustrisi A.S (Habas).² We received no other requests for review. On September 3, 2020, Commerce published in the Federal Register a notice of initiation of an administrative review with respect to Habas, in accordance with section 751(a) of the Tariff Act of 1930, as amended (the Act).³ On September 6, 2020, Habas notified Commerce that it had no sales, shipments or entries of subject merchandise during the period of review (POR).⁴ On September 29, 2020, Commerce issued a no shipment inquiry to U.S. Customs and Border Protection (CBP) to corroborate Habas' claim.⁵ On October 2, 2020, Commerce notified all interested parties that CBP found no evidence of shipments of subject merchandise produced and exported by Habas during the POR.⁶ On October 7, 2020, Commerce provided all parties an opportunity to comment on CBP's findings.⁷ No parties submitted comments.

¹ See Antidumping or Countervailing Duty Order, Finding, or Suspended Investigation; Opportunity To Request Administrative Review, 85 FR 39531 (July 1, 2020).

² See Petitioner's Letter, “Steel Concrete Reinforcing Bar from the Republic of Turkey: Request for Administrative Review,” dated July 30, 2020.

³ See Initiation of Antidumping and Countervailing Duty Administrative Reviews, 85 FR 54983 (September 3, 2020) (Initiation Notice).

⁴ See Habas' Letter, “Steel Concrete Reinforcing Bar from Turkey; Habas No Shipment Letter,” dated September 6, 2020.

⁵ See Customs Instructions Message 0273403, dated September 29, 2020.

⁶ See Memorandum, “Steel Concrete Reinforcing Bar from the Republic of Turkey (C-489-830): No shipment inquiry with respect to the companies listed below during the period 01/01/2019, through 12/31/2019,” dated October 2, 2020.

⁷ See Memorandum, “Steel Concrete Reinforcing Bar from the Republic of Turkey: Deadline for Comments on Results of No Shipment Inquiry,” dated October 7, 2020.

Rescission of Review

Pursuant to 19 CFR 351.213(d)(3), it is Commerce's practice to rescind an administrative review of a CVD order where it concludes that there were no reviewable entries of subject merchandise during the POR.⁸ Normally, upon completion of an administrative review, the suspended entries are liquidated at the CVD assessment rate for the review period. See 19 CFR 351.212(b)(2). Therefore, for an administrative review to be conducted, there must be a reviewable, suspended entry that Commerce can instruct CBP to liquidate at the calculated CVD assessment rate for the review period.⁹ As noted above, CBP confirmed that there were no entries of subject merchandise during the POR with respect to Habas, the only company subject to this review. Accordingly, in the absence of reviewable, suspended entries of subject merchandise during the POR, we are rescinding this administrative review, in its entirety, in accordance with 19 CFR 351.213(d)(3).

⁸ See, e.g., Certain Hardwood Plywood Products from the People's Republic of China: Preliminary Results of Countervailing Duty Administrative Review and Rescission of Review, in Part; 2017-2018, 84 FR 54844, 54845 and n.8 (October 11, 2019) (citing Lightweight Thermal Paper from the People's Republic of China: Notice of Rescission of Countervailing Duty Administrative Review; 2015, 82 FR 14349 (March 20, 2017)).

⁹ See 19 CFR 351.213(d)(3).

Assessment Rates

Commerce will instruct CBP to assess CVDs on all appropriate entries. Because Commerce is rescinding this review in its entirety, the entries to which this administrative review pertained shall be assessed at rates equal to the cash deposit of estimated countervailing duties required at the time of entry, or withdrawal from warehouse, for consumption, in accordance with 19 CFR 351.212(c)(1)(i). Commerce intends to issue appropriate assessment instructions to CBP 15 days after the publication of this notice in the Federal Register.

Notification Regarding Administrative Protective Order

This notice also serves as a final reminder to parties subject to administrative protective order (APO) of their responsibility concerning the return or destruction of proprietary information disclosed under APO in accordance with 19 CFR 351.305, which continues to govern business proprietary information in this segment of the proceeding. Timely written notification of the return or destruction of the APO materials, or conversion to judicial protective order, is hereby requested. Failure to comply with regulations and terms of an APO is a violation, which is subject to sanction.

Notification to Interested Parties

This notice is issued and published in accordance with sections 751(a)(1) and 777(i) of the Act, and 19 CFR 351.213(d)(4).

Dated: November 3, 2020.
James Maeder,
Deputy Assistant Secretary for Antidumping and Countervailing Duty Operations.

[FR Doc. 2020-24767 Filed 11-6-20; 8:45 am]

BILLING CODE 3510-DS-P